COMMITTEE FOR PURCHASE FROM PEOPLE WHO ARE BLIND OR SEVERELY DISABLED

Procurement List; Proposed Additions and Deletion

AGENCY: Committee for Purchase From People Who Are Blind or Severely Disabled.

ACTION: Proposed additions to and deletion from Procurement List.

SUMMARY: The Committee is proposing to add to the Procurement List commodities and services to be furnished by nonprofit agencies employing persons who are blind or have other severe disabilities, and to delete commodity previously furnished by such agencies.

COMMENTS MUST BE RECEIVED ON OR BEFORE: September 17, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

Additions

If the Committee approves the proposed addition, the entities of the Federal Government identified in this notice for each commodity or service will be required to procure the commodities and services listed below from nonprofit agencies employing persons who are blind or have other severe disabilities.

I certify that the following action will not have a significant impact on a substantial number of small entities. The major factors considered for this certification were:

1. The action will not result in any additional reporting, recordkeeping or other compliance requirements for small entities other than the small organizations that will furnish the commodities and services to the Government.

2. The action will result in authorizing small entities to furnish the commodities and services to the Government.

3. There are no known regulatory alternatives which would accomplish the objectives of the Javits-Wagner-O'Day Act (41 U.S.C. 46—48c) in connection with the commodities and services proposed for addition to the Procurement List. Comments on this certification are invited. Commenters should identify the statement(s) underlying the certification on which they are providing additional information.

The following commodities and services are proposed for addition to Procurement List for production by the nonprofit agencies listed:

Commodities

“Cusheeze” Pencil Grips, Foam Rubber

7510-01-383-7680

NPA: West Texas Lighthouse for the Blind, San Angelo, Texas

Government Agency: GSA/Office Supplies and Paper Products Commodity Center.

EcoLab Water Soluble Cleaners/Detergents

7930-00-NIB-0134

7930-00-NIB-0135

7930-00-NIB-0136

7930-00-NIB-0137

7930-00-NIB-0138

7930-01-380-6404

7930-01-418-1102

7930-01-418-1104

7930-01-436-8012

NPA: Association for the Blind & Visually Impaired & Goodwill Industries of Greater Rochester, Rochester, New York

Government Agency: GSA/General Products Commodity Center.

Trunklocker, Wood

8460-00-NSH-0003

NPA: Walterboro Vocational Rehabilitation Center, Walterboro, South Carolina

Government Agency: Marine Corps Recruit Depot/Eastern Recruiting Region.

Mop, Flat, w/Scrubber

M.R. 1045

NPA: New York City Industries for the Blind, Brooklyn, New York

Government Agency: Defense Commissary Agency.

Chopsticks

M.R. 1757

NPA: New Jersey Association for the Deaf-Blind, Inc, Somerset, New Jersey

Government Agency: Defense Commissary Agency.

Services

Family Housing Maintenance

Naval Base, Ventura County, California

NPA: PRIDE Industries, Roseville, California

Government Agency: Department of the Navy, Facilities Support Contract Office.

Janitorial/Custodial, El Centro Toilet Cleaning

Bureau of Land Management, Imperial County, California

NPA: Yuma WORC Center, Inc., Yuma, Arizona

Government Agency: Bureau of Land Management, Denver.

Remanufactured Wood Trunklockers

Marine Corps Recruit Depot, Eastern Recruiting Region, Parris Island, South Carolina

NPA: Walterboro Vocational Rehabilitation Center, Walterboro, South Carolina

Government Agency: Marine Corps Recruit Depot/Eastern Recruiting Region.

Deletion

I certify that the following action will not have a significant impact on a substantial number of small entities. The major factors considered for this certification were:

1. The action will not result in any additional reporting, recordkeeping or other compliance requirements for small entities.

2. The action will result in authorizing small entities to furnish the commodities and services to the Government.

3. There are no known regulatory alternatives which would accomplish the objectives of the Javits-Wagner-O'Day Act (41 U.S.C. 46-48c) in connection with the commodities and services proposed for deletion from the Procurement List.

The following commodity is proposed for deletion from the Procurement List:

Commodity

Lancet, Finger Bleeding

6515-01-135-8497

6515-01-225-4757

Sheryl D. Kennerly,
Director, Information Management.

[FR Doc. 01-20813 Filed 8-16-01; 8:45 am]

BILLING CODE 6353-01-P